DEPARTMENT OF EDUCATION

Office of Special Education and Rehabilitative Services; Special Education—Training and Information for Parents of Children With Disabilities

AGENCY: Department of Education.

ACTION: Notice inviting applications for new awards for fiscal year (FY) 2001.

SUMMARY: This notice provides closing dates and other information regarding the transmittal of applications for FY 2001 competitions under one program authorized by the Individuals with Disabilities Education Act (IDEA), as amended: Special Education— Training and Information for Parents of Children with Disabilities.

National Education Goals

The eight National Education Goals focus the Nation's education reform efforts and provide a framework for improving teaching and learning.

This priority addresses the National Education Goals that promote new partnerships to strengthen schools and expand the Department's capacities for helping communities to exchange ideas and obtain information needed to achieve the goals.

This priority would address the National Education Goals by helping to improve results for children with disabilities.

Waiver of Rulemaking

It is generally our practice to offer interested parties the opportunity to comment on proposed priorities. However, section 661(e)(2) of IDEA makes the Administrative Procedure Act (5 U.S.C. 553) inapplicable to the priority in this notice.

General Requirements

(a) The projects funded under this notice must make positive efforts to employ and advance in employment qualified individuals with disabilities in project activities (see section 606 of IDEA).

(b) Applicants and grant recipients funded under this notice must involve individuals with disabilities or parents of individuals with disabilities in planning, implementing, and evaluating the projects (see section 661(f)(1)(A) of IDEA).

(c) The projects funded under these priorities must budget for a two-day Project Directors' meeting in Washington, D.C. during each year of the project.

(d) In a single application, an applicant must address only one absolute priority in this notice.

(e) Part III of each application submitted under a priority in this notice, the application narrative, is where an applicant addresses the selection criteria that are used by reviewers in evaluating the application. You must limit Part III to the equivalent of no more than the number of pages listed in the table at the end of this notice for each applicable priority, using the following standards:

• A “page” is 8.5″x11″ (on one side only) with one-inch margins (top, bottom, and sides).

• Double-space (no more than three lines per vertical inch) all text in the application narrative, including titles, headings, footnotes, quotations, and captions, as well as all text in charts, tables, figures, and graphs.

• If using a proportional computer font, use no smaller than a 12-point font, and an average character density no greater than 18 characters per inch. If using a nonproportional font or a typewriter, do not use more than 12 characters per inch.

The page limit does not apply to Part I—the cover sheet; Part II—the budget section, including the narrative budget justification; Part IV, the assurances and certifications; or the one-page abstract, the resumes, the bibliography or references, or the letters of support. However, you must include all of the application narrative in Part III.

We will reject without consideration or evaluation any application if —

• You apply these standards and exceed the page limit; or

• You apply other standards and exceed the equivalent of the page limit.

Special Education—Training and Information for Parents of Children With Disabilities [CFDA No. 84.328]

Purpose of Program: The purpose of this program is to ensure that parents of children with disabilities receive training and information to help improve results for their children.

Under section 682(e) of IDEA, we are required to:

(a) Make at least one award to a parent organization in each State, unless we do not receive an application from such an organization in each State of sufficient quality to warrant approval; and

(b) Select among applications submitted by parent organizations in a State in a manner that ensures the most effective assistance to parents, including parents in urban and rural areas, in the State.

Applicable Regulations: (a) The Education Department General Administrative Regulations (EDGAR) in 34 CFR parts 74, 75, 77, 79, 80, 81, 82, 85, 97, 98, and 99; (b) The selection criteria for this priority are drawn from the EDGAR general selection criteria menu. The specific selection criteria for this priority are included in the funding application package for this competition.

Eligible Applicants: Parent organizations, as defined in section 682(g) of IDEA. A parent organization is a private nonprofit organization (other than an institution of higher education) that:

(a) Has a board of directors, the parent and professional members of which are broadly representative of the population to be served and the majority of whom are parents of children with disabilities, that includes individuals with disabilities and individuals working in the fields of special education, related services, and early intervention; or

(b) Has a membership that represents the interests of individuals with disabilities and has established a special governing committee meeting the requirements for a board of directors in paragraph (a) of this section and develops a memorandum of understanding between this special governing committee and the board of directors of the organization that clearly outlines the relationship between the board and the committee and the decisionmaking responsibilities and authority of each.

Priority

Under section 682 of the Act and 34 CFR 75.105(c)(3), we will give an absolute preference to applications that meet the following priority. We will fund under this competition only those applications that meet this priority:

Absolute Priority—Parent Training and Information Centers (84.328M)

Background

The IDEA Amendments of 1997 strengthen the role of parents and increase their involvement in decisions about their children's education. In order to allocate resources more equitably, create a unified system of service delivery, and provide the broadest coverage for the parents and families in every State, the Department is making awards in five (5)-year cycles for each State. In FY 2001, applications for 5-year awards will be accepted for Alaska, Alabama, Colorado, Florida, Kentucky, Maine, Maryland, Nebraska, New York, North Dakota, Nevada, Vermont, Wisconsin, and Puerto Rico.

In addition to the above State awards, we intend to fund one award that focuses on the needs of Native-American families who have children with disabilities and one award that focuses on the needs of military families who have children with disabilities.

Until the first five (5)-year cycle is completed, there is a need to have an interim schedule for awards in States where there is more than one PTI and their current awards do not have the same end date. We are holding competitions for one or more awards in these States for the time periods needed to match the end date of the last Center funded.

Applications will be accepted for FY 2001 interim competitions for the State of California and the State of Michigan. We intend to fund five awards for one-year each:

(1) One Center in the State of California that will serve the population in the northern part of the State. This award will be for $399,400.

(2) One Center in the State of California that will serve the population in the central part of the State. This award will be for $230,470.

(3) One Center in the State of California that will serve the population in the southern part of the State. This award will be for $236,970.

(4) One Center in the State of California that will serve the population in the San Francisco Bay area. This award will be for $236,970.

(5) One Center in the State of Michigan that will serve the population in the Detroit area. This award will be for $274,440.

Priority

A Parent Training and Information Center must —

(a) Provide training and information that meets the training and information needs of parents of children with disabilities in the area served by the Center, particularly underserved parents and parents of children who may be inappropriately identified, including those who are not identified at all;

(b) Assist parents to understand the availability of, and how to effectively use, procedural safeguards under IDEA, including encouraging the use, and explaining the benefits, of alternative methods of dispute resolution, such as the mediation process described in IDEA;

(c) Serve the parents of infants, toddlers, and children with the full range of disabilities;

(d) Assist parents to—

(1) Better understand the nature of their children's disabilities and their educational and developmental needs;

(2) Communicate effectively with personnel responsible for providing special education, early intervention, and related services;

(3) Participate in decisionmaking processes and the development of individualized education programs and individualized family service plans;

(4) Obtain appropriate information about the range of options, programs, services, and resources available to assist children with disabilities and their families;

(5) Understand the provisions of the Act for the education of, and the provision of early intervention services to, children with disabilities; and

(6) Participate in school reform activities;

(e) Contract with the State educational agency, if the State elects to contract with the Parent Training and Information Center, for the purpose of meeting with parents who choose not to use the mediation process to encourage the use, and explain the benefits, of mediation consistent with section 615(e)(2)(B) and (D) of IDEA;

(f) Establish cooperative relations with the Community Parent Resource Center or Centers in their State in accordance with section 683(b)(3) of IDEA;

(g) Network with appropriate clearinghouses, including organizations conducting national dissemination activities under section 685(d) of IDEA, and with other national, State, and local organizations and agencies, such as protection and advocacy agencies, that serve parents and families of children with the full range of disabilities;

(h) Annually report to the Assistant Secretary on—

(1) The number of parents to whom the Parent Training and Information Center provided information and training in the most recently concluded fiscal year, and

(2) The effectiveness of strategies used to reach and serve parents, including underserved parents of children with disabilities; and

(i) If there is more than one parent center in a particular State, coordinate its activities to ensure the most effective assistance to parents in that State.

An applicant must identify the strategies it will undertake—

(a) To ensure that the needs for training and information of underserved parents of children with disabilities in the areas to be served are effectively met, particularly in underserved areas of the State; and

(b) To work with the community-based organizations, particularly in the underserved areas of the State.

A Parent Training and Information Center that receives assistance under this absolute priority may also conduct the following activities —

(a) Provide information to teachers and other professionals who provide special education and related services to children with disabilities;

(b) Assist students with disabilities to understand their rights and responsibilities on reaching the age of majority, as stated in section 615(m) of IDEA; and

(c) Assist parents of children with disabilities to be informed participants in the development and implementation of the State improvement plan under IDEA.

In addition to the annual Project Directors' meeting included in the “General Requirements” section of this notice, a project's budget must include funds to attend a regional Project Directors' meeting to be held each year of the project.

In order to demonstrate eligibility to receive a grant, an applicant must describe how its board or special governing committee meets the criteria for a parent organization in section 682(g) of IDEA. In addition, any parent organization that establishes a special governing committee under section 682(g)(2) of IDEA must demonstrate that the bylaws of its organization allow the governing committee to be responsible for operating the project (consistent with existing fiscal policies of its organization).

Current funding levels and population of school age children were factors in determining the funding levels for these grants.

Competitive Preferences

Within this absolute priority, we will award the following competitive preference points under 34 CFR 75.105(c)(2)(i): An additional 10 points to an application submitted by a parent organization or a consortia of parent organizations that qualify as parent organizations under section 682(g)(1) of IDEA.

In addition, we will give the following competitive preference points under section 606 of IDEA and 34 CFR 75.105(c)(2)(i), to applications that are otherwise eligible for funding under this priority:

Up to ten (10) points based on the effectiveness of the applicant's strategies for employing and advancing in employment qualified individuals with disabilities in project activities as required under paragraph (a) of the “General Requirements” section of this notice. In determining the effectiveness of those strategies, we may consider the applicant's past success in pursuit of this goal.

Therefore, for purposes of these competitive preferences, applicants can be awarded up to a total of 20 points in addition to those awarded under the selection criteria for this priority. That is, an applicant meeting this competitive preference could earn a maximum total of 120 points.

Project Period: With the exception of the following, projects will be funded for a period up to 60 months. Interim projects will be funded for a period up to 12 months.

Estimated Project Awards: Project award amounts are for a single budget period of 12 months. The FY 2001 State awards, interim State awards, and awards focusing on Native American families and military families are listed below:

Alaska | $269,820
Alabama | 280,940
Colorado | 277,330
Florida | 585,020
Kentucky | 253,760
Maine | 193,350
Maryland | 297,890
Nebraska | 202,110
New York | 1,154,270
North Dakota | 210,170
Nevada | 210,280
Puerto Rico | 278,880
Vermont | 193,870
Wisconsin | 450,000
Native American Families | 100,000
Military Families | 100,000
California (4 Interim Awards) | 1,103,810
Michigan (Interim Award) | 274,440

Awards may also be made to authorized entities in Guam, Palau, the Commonwealth of the Northern Mariana Islands, and the freely associated States. However, maximum funding levels have not been specified.

Consistent with EDGAR 34 CFR 75.104(b), we will reject any application that proposes a project funding level for any year that exceeds the stated maximum award amount for that year.

Page Limits: The maximum page limit for this priority is 50 double-spaced pages.

Note: Applications must meet the required page limit standards that are described in the “General Requirements” section of this notice.

For Applications Contact: Education Publications Center (ED Pubs), P.O. Box 1398, Jessup, Maryland 20794-1398. Telephone (toll free): 1-877-4ED-Pubs (1-877-433-7827). FAX: 301-470-1244. Individuals who use a telecommunications device for the deaf (TDD) may call (toll free) 1-877-576-7734.

You may also contact ED Pubs via its Web site (http://www.ed.gov/pubs/edpubs.html) or its E-mail address (edpubs@inet.ed.gov).

If you request an application from ED Pubs, be sure to identify this competition as follows: CFDA 84.328M.

FOR FURTHER INFORMATION CONTACT: Grants and Contracts Services Team, U.S. Department of Education, 400 Maryland Avenue, SW., room 3317, Switzer Building, Washington, DC 20202-2550. Telephone: (202) 260-9182.

If you use a TDD you may call the Federal Information Relay Service (FIRS) at 1-800-877-8339.

Individuals with disabilities may obtain this document in an alternative format (e.g., Braille, large print, audiotape, or computer diskette) on request to the contact office.

Individuals with disabilities may obtain a copy of the application package in an alternative format by contacting the Department contact office. However, the Department is not able to reproduce in an alternative format the standard forms included in the application package.

Intergovernmental Review

The program in this notice is subject to the requirements of Executive Order 12372 and the regulations in 34 CFR part 79. The objective of the Executive order is to foster an intergovernmental partnership and a strengthened federalism by relying on processes developed by State and local governments for coordination and review of proposed Federal financial assistance.

In accordance with the order, we intend this document to provide early notification of the Department's specific plans and actions for this program.

Individuals With Disabilities Education Act Application Notice for Fiscal Year 2001
CFDA No. and name | Applications available | Application deadline date | Deadline for intergovernmental review | Maximum award (per year) * | Project period | Page limit ** | Estimated No. of awards
84.328M Parent Training and Information Centers | 05/25/01 | 07/13/01 | 09/13/01 |  | Up to 60 mos | 50 | 21
Alaska |  |  |  | $269,820 |  |  |
Alabama |  |  |  | 280,940 |  |  |
Colorado |  |  |  | 277,330 |  |  |
Florida |  |  |  | 585,020 |  |  |
Kentucky |  |  |  | 253,760 |  |  |
Maine |  |  |  | 193,350 |  |  |
Maryland |  |  |  | 297,890 |  |  |
Nebraska |  |  |  | 202,110 |  |  |
New York |  |  |  | 1,154,270 |  |  |
North Dakota |  |  |  | 210,170 |  |  |
Nevada |  |  |  | 210,280 |  |  |
Puerto Rico |  |  |  | 278,880 |  |  |
Vermont |  |  |  | 193,870 |  |  |
Wisconsin |  |  |  | 450,000 |  |  |
Native American Families |  |  |  | 100,000 |  |  |
Military Families |  |  |  | 100,000 |  |  |
California (Interim) |  |  |  | 1,103,810 |  |  |
Michigan (Interim) |  |  |  | 274,440 |  |  |
* Consistent with EDGAR 34 CFR 75.104(b), we will reject any application that proposes a project funding level for any year that exceeds the stated maximum award amount for that year. Awards may also be made to authorized entities in Guam, Palau, the Commonwealth of the Northern Mariana Islands, and the freely associated States. However, maximum funding levels have not been specified.
** Applicants must limit the Application Narrative, Part III of the Application, to the page limits noted above. Please refer to the “Page Limit” requirements included under each priority description and the page limit standards described in the “General Requirements” section. We will reject and will not consider an application that does not adhere to this requirement.

Electronic Access To This Document

You may view this document, as well as all other Department of Education documents published in the Federal Register, in text or portable document format (PDF) on the internet at the following site: http://www.ed.gov/Legislation/FedRegister. To use PDF you must have Adobe Acrobat Reader, which is available free at the previous site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo/nara/index.html.

Program Authority: 20 U.S.C. 1482.

Dated: May 14, 2001.
Frank V. Corrigan,
Deputy Director for National Institute on Disability and Rehabilitation and Research.

[FR Doc. 01-12518 Filed 5-17-01; 8:45 am]

BILLING CODE 4000-01-P